DEPARTMENT OF COMMERCE

International Trade Administration

[C-122-872]

Certain Corrosion-Resistant Steel Products From Canada: Preliminary Affirmative Countervailing Duty Determination and Alignment of Final Determination With Final Antidumping Duty Determination; Correction

AGENCY: Enforcement and Compliance, International Trade Administration, Department of Commerce.

ACTION: Notice, correction.

SUMMARY: The U.S. Department of Commerce (Commerce) published a notice in the Federal Register of February 10, 2025, regarding the preliminary affirmative countervailing duty (CVD) determination of certain corrosion-resistant steel products (CORE) from Canada. This notice contained the incorrect name of one of the mandatory respondents.

FOR FURTHER INFORMATION CONTACT: Colin Thrasher or Eric Hawkins, AD/CVD Operations, Office V, Enforcement and Compliance, International Trade Administration, U.S. Department of Commerce, 1401 Constitution Avenue NW, Washington, DC 20230; telephone: (202) 482-3004 or (202) 482-1988, respectively.

SUPPLEMENTARY INFORMATION:

Background

On February 10, 2025, Commerce published in the Federal Register the CVD preliminary affirmative determination.¹ We incorrectly stated that one of the mandatory respondents was ArcelorMittal Dofasco Inc. instead of ArcelorMittal Dofasco G.P.

¹ See Certain Corrosion-Resistant Steel Products from Canada: Preliminary Affirmative Countervailing Duty Determination and Alignment of Final Determination with Final Antidumping Duty Determination, 90 FR 9231 (February 10, 2025).

Correction

In the Federal Register of February 10, 2025, at 90 FR 9232, in the third column, correct the company name from ArcelorMittal Dofasco Inc. (AMD) to ArcelorMittal Dofasco G.P. (AMD), and on page 9233 in the “Company” table, correct the name from ArcelorMittal Dofasco Inc./ArcelorMittal Canada Holdings Inc./ArcelorMittal Canada Inc./ArcelorMittal Canada MP Inc./ArcelorMittal Long Products Canada G.P./ArcelorMittal Mining Canada GP/ArcelorMittal Exploitation Miniere to ArcelorMittal Dofasco G.P./ArcelorMittal Canada Holdings Inc./ArcelorMittal Canada Inc./ArcelorMittal Canada MP Inc./ArcelorMittal Long Products Canada G.P./ArcelorMittal Mining Canada GP/ArcelorMittal Exploitation Miniere.

Notification to Interested Parties

This determination is issued and published in accordance with sections 703(f) and 777(i)(1) of the Tariff Act of 1930, as amended, and 19 CFR 351.205(c).

Dated: February 21, 2025.
Christopher Abbott,
Deputy Assistant Secretary for Policy and Negotiations, performing the non-exclusive functions and duties of the Assistant Secretary for Enforcement and Compliance.

[FR Doc. 2025-03185 Filed 2-26-25; 8:45 am]

BILLING CODE 3510-DS-P